DEPARTMENT OF HEALTH AND HUMAN SERVICES

Health Resources and Services Administration

Agency Information Collection Activities: Submission to OMB for Review and Approval; Public Comment Request; Information Collection Request Title: Teaching Health Center Graduate Medical Education Program Cost Evaluation, OMB No. 0906-XXXX—NEW

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than September 14, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Teaching Health Centers Graduate Medical Education Program Cost Evaluation, OMB No. 0906-XXXX—NEW.

Abstract: The Teaching Health Center Graduate Medical Education (THCGME) program, authorized by Section 340H of the Public Health Service Act, was established by Section 5508 of Public Law (Pub. L.) 111-148. The Bipartisan Budget Act of 2018 (Pub. L. 115-123) provided continued funding for the THCGME Program for fiscal years 2018 and 2019 and the Coronavirus Aid, Relief, and Economic Security Act extends funding for FY 2020 and for the first two months of FY 2021 (until November 30, 2020). The THCGME program provides funding support for new and the expansion of existing primary care residency training programs in community-based settings. The primary goals of this program are to increase the production of primary care providers who are better prepared to practice in community settings, particularly with underserved populations, and improve the geographic distribution of primary care providers.

Need and Proposed Use of the Information: Statute requires the Secretary to determine an appropriate THCGME program payment for indirect medical expenses (IME) as well as to update, as deemed appropriate, the per resident amount used to determine the Program's payment for direct medical expenses (DME). To inform these determinations and to increase understanding of this model of residency training, George Washington University (GW), under contract with HRSA, is conducting an evaluation of the costs associated with training residents in the THC model. GW has developed a standardized THCGME Costing Instrument to gather data from all THCGME programs, which they will use to gather costing information related to both DME and IME. The information gathered in the THCGME Costing Instrument includes, but is not limited to, resident and faculty full-time equivalents, salaries and benefits, residency administration costs, educational costs, residency clinical operations and administrative costs, patient visits and clinical revenue generated by medical residents, financial reports, as well as general program information to understand the characteristics of the THCGME program and sponsoring institutions that are involved in residency training.

A 60-day notice published in the Federal Register on April 30, 2020, vol. 85, No. 84; pp. 23975-76. One public comment was received. GW also consulted with a GME Expert Panel to provide an external informed review of the THCGME Costing Instrument. Recommendations were received from the GME Expert Panel and minor changes were made. The feedback provided by the public comment and the GME Expert Panel included recommendations to: (1) Collect information on telehealth visits in 2018-2019 as a benchmark for telehealth activity post COVID-19 pandemic; (2) change to academic year 2018-2019 for the data collection period; and (3) further solidify the IME methodology for the non-THC Federally Qualified Health Center comparison group; and (4) enhance the THCGME Costing Instrument instructions.

HRSA is collecting costing information related to both DME and IME in an effort to establish a THC's total cost of running a residency program, to assist the Secretary in determining an appropriate update to the per resident amount used to calculate the payment for DME and an appropriate IME payment. The described data collection activities will serve to inform these statutory requirements for the Secretary in a uniform and consistent manner.

Likely Respondents: The likely respondents to the THCGME Costing Instrument are the THCGME program award recipients.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Teaching Health Center Costing Instrument | 56 | 1 | 56 | 10 | 560
Total | 56 |  | 56 |  | 560

Maria G. Button,
Director, Executive Secretariat.

[FR Doc. 2020-17729 Filed 8-12-20; 8:45 am]

BILLING CODE 4165-15-P